DEPARTMENT OF THE INTERIOR

Bureau of Land Management

[LLAZG03000.L16100000.DQ0000. LXSS085A0000.241A.00]

Notice of Availability of the Proposed Ironwood Forest National Monument Resource Management Plan/Final EIS

AGENCY: Bureau of Land Management.

ACTION: Notice of Availability.

SUMMARY: In accordance with the National Environmental Policy Act of 1969, as amended, and the Federal Land Policy and Management Act of 1976, as amended, the Bureau of Land Management (BLM) has prepared a Proposed Resource Management Plan (RMP)/Final Environmental Impact Statement (EIS) for the Ironwood Forest National Monument and by this notice is announcing its availability.

DATES: BLM planning regulations state that any person who meets the conditions as described in the regulations may protest the BLM's Proposed RMP/Final EIS. The protest must be filed within 30 days of the date that the Environmental Protection Agency publishes this notice in the Federal Register.

ADDRESSES: Copies of the Ironwood Forest National Monument Proposed RMP/Final EIS have been sent to affected Federal, State, and local government agencies; the Ak Chin Indian Community, Gila River Indian Community, Tohono O'odham Nation, Salt River Pima-Maricopa Indian Community, and San Carlos Apache Indian Community; and to other stakeholders. Copies of the Proposed RMP/Final EIS are available for public inspection at the BLM Tucson Field Office, 12661 East Broadway Boulevard, Tucson, Arizona. Interested persons may also review the Proposed RMP/Final EIS on the Internet at http://www.blm.gov/az/st/en/prog/planning/ironwood.html. All protests must be in writing and mailed to the following addresses:

Regular Mail:

BLM Director (210), Attention: Brenda Hudgens-Williams, P.O. Box 71383, Washington, DC 20024-1383

Overnight Mail:

BLM Director (210), Attention: Brenda Hudgens-Williams, 20 M. Street, SE., Room 2134LM, Washington, DC 20003.

FOR FURTHER INFORMATION CONTACT: Laura Olais, Ironwood Forest National Monument Manager, Tucson Field Office, 12661 East Broadway, Tucson, Arizona 85748-7208; or by telephone at 520-258-7235; or by e-mail at lolais@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Ironwood Forest National Monument, established by Presidential Proclamation on June 9, 2000, encompasses approximately 128,400 acres of Federal land administered by the BLM; approximately 54,700 acres of State Trust land (administered by the Arizona State Land Department); and approximately 6,000 acres that are privately owned. The Proposed RMP/Final EIS affects only Federal lands and Federal interests located within the established boundary of the monument. The BLM's Tucson Field Office has the responsibility of planning for and management of Federal lands within the monument.

Issues identified as part of the planning process and addressed in the Proposed RMP/Final EIS include air resources, biological resources, cultural resources, fire management, grazing management, hazardous materials, lands and realty, mineral and energy resources, Native American issues, recreation, social and economic conditions, soils, wilderness characteristics, transportation and access, visual resources, and water resources. The Proposed RMP/Final EIS includes strategies for protecting and preserving the biological, cultural, recreational, geological, educational, scientific, and scenic values for which the monument was established.

Four alternatives were analyzed in the Proposed RMP/Final EIS. The “no action” alternative represents current management of the Ironwood Forest National Monument. Three additional “action” alternatives present reasonable, yet varying, management scenarios. The alternatives range from emphasizing maintenance of the naturalness of the Ironwood Forest National Monument (by restricting some human uses) to emphasizing continued human uses, while still protecting the objects and resources for which the monument was established. The range of alternatives in the Proposed RMP/Final EIS evaluates planning decisions brought forward from current BLM planning documents, including the Phoenix Resource Management Plan (1989), Arizona Standards for Rangeland Health and Guidelines for Grazing Administration (1987), and the Arizona Statewide Land Use Plan Amendment for Fire, Fuels, and Air Quality Management (2003).

Comments on the Draft RMP/EIS received from the public and internal BLM review were considered and incorporated as appropriate into the proposed plan. Public comments resulted in a variety of clarifications and modifications throughout the Proposed RMP/Final EIS, but did not significantly change the overall proposed land use plan. Revisions made between the Draft RMP/EIS and the Proposed RMP/Final EIS include: Identification of objects of the monument to be protected and more detailed analysis of the impacts on the objects of the monument; the addition of an alternative to allow recreational shooting in specific areas, and the inclusion of a shooting analysis of the planning area; deferral of the decision to classify two ephemeral grazing allotments as perennial; and quantification of some management goals and objectives, and modifications to implementation-level decisions to correctly categorize them as plan-level decisions or administrative actions. Other revisions of certain management actions consisted of the following: Under cultural resources, Cocoraque Butte will not be allocated to public use; also under cultural resources, cultural resource surveys were conducted along roads that would be open for motorized use, and survey findings have been added to the RMP as well as associated impacts for each alternative; under travel management, some minor changes have been made to the alternatives to close certain routes and open others to motorized use, resulting in minor changes to the overall number of miles of routes designated for various uses; also under travel management, mechanized use would now be allowed on all designated routes with the exception of routes designated as trails or where otherwise restricted; under vegetation management, the proposed plan has been revised and proposes that only native plants be used in restoration activities; under lands and realty, utility corridors have been shifted so that they are not centered on the existing right-of-way in order to increase maneuverability for additional utilities; also under lands and realty, the BLM will not acquire surface estate unless mineral estate can be acquired concurrently (or is already federally owned).

Instructions for filing a protest with the Director of the BLM regarding the Proposed RMP/Final EIS may be found in the “Dear Reader Letter” of the Ironwood Forest National Monument Proposed RMP/Final EIS and at 43 CFR 1610.5-2. E-mail and faxed protests will not be accepted unless the protesting party also provides the original letter by either regular or overnight mail postmarked by the close of the protest period. Under these conditions, the BLM will consider the e-mail or faxed protest as an advance copy and it will receive full consideration. If you wish to provide the BLM with such advance notification, please direct faxed protests to the attention of the BLM protest coordinator at 202-452-5112, and e-mail to Brenda_Hudgens-Williams@blm.gov.

All protests, including the follow-up letter to e-mails or faxes, must be in writing and mailed to the appropriate address, as set forth in the ADDRESSES section above.

Before including your phone number, e-mail address, or other personal identifying information in your protest, you should be aware that your entire protest—including your personal identifying information—may be made publicly available at any time.

While you can ask us in your protest to withhold your personal identifying information from public review, we cannot guarantee that we will be able to do so.

Authority: 40 CFR 1506.6, 40 CFR 1506.10, 43 CFR 1610.2, 43 CFR 1610.5.

James G. Kenna,
Arizona State Director.

[FR Doc. 2011-24340 Filed 9-22-11; 8:45 am]

BILLING CODE 4310-32-P